DEPARTMENT OF COMMERCE

International Trade Administration

University of North Carolina; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 A.M. and 5:00 P.M. in Room 4211, U.S. Department of Commerce, 14th and Constitution Avenue, N.W., Washington, D.C.

Docket Number: 99-025. Applicant: University of North Carolina, Chapel Hill, NC 27599. Instrument: Nose Only Inhalation System. Manufacturer: ADG Developments Ltd., United Kingdom. Intended Use: See notice at 64 FR 63788, November 22, 1999.

Comments: None received. Decision: Approved. No instrument of equivalent scientific value to the foreign instrument, for such purposes as it is intended to be used, is being manufactured in the United States. Reasons: The foreign instrument provides delivery of drug aerosols by nose-only exposure to mycobacterium infected guinea pigs to evaluate novel therapies for the treatment of tuberculosis in animal models. The National Institutes of Health advises in its memorandum of December 10, 1999 that (1) this capability is pertinent to the applicant's intended purpose and (2) it knows of no domestic instrument or apparatus of equivalent scientific value to the foreign instrument for the applicant's intended use.

We know of no other instrument or apparatus of equivalent scientific value to the foreign instrument which is being manufactured in the United States.

Frank W. Creel,
Director, Statutory Import Programs Staff.

[FR Doc. 00-1655 Filed 1-21-00; 8:45 am]

BILLING CODE 3510-DS-P